DEPARTMENT OF JUSTICE

Office of the Assistant Attorney General for Civil Rights; Certification of the North Carolina Accessibility Code Under the Americans With Disabilities Act; Informal Hearing

AGENCY: Department of Justice.

ACTION: Notice of preliminary determination of equivalency and opportunity to submit written comments, and hearing on proposed determination.

SUMMARY: The Department of Justice (Department) has determined that the 2002 North Carolina Accessibility Code with 2004 amendments (NCAC) meets or exceeds the new construction and alterations requirements of title III of the Americans with Disabilities Act of 1990 (ADA). The Department proposes to issue a final certification, pursuant to 42 U.S.C. 12188(b)(1)(A)(ii) and 28 CFR 36.601 et seq., which would constitute rebuttable evidence, in any enforcement proceeding, that a building constructed or altered in accordance with the NCAC meets or exceeds the requirements of the ADA. The Department will hold an informal hearing on the proposed certification in Cary, North Carolina.

DATES: To be assured of consideration, comments must be in writing and must be received on or before June 7, 2005. The hearing in Cary, North Carolina is scheduled for Monday, May 16, 2005, at 1 p.m. eastern time.

ADDRESSES: Comments on the preliminary determination of equivalency and on the proposal to issue final certification of equivalency of the NCAC should be sent to: John L. Wodatch, Chief, Disability Rights Section, Civil Rights Division, U.S. Department of Justice, 950 Pennsylvania Avenue, NW., 1425 NYA Building, Washington, DC 20530.

The hearing will be held at: Bond Park Community Center, 150 Metro Park Drive, Cary, NC 27512.

FOR FURTHER INFORMATION CONTACT: John L. Wodatch, Chief, Disability Rights Section, Civil Rights Division, U.S. Department of Justice, 950 Pennsylvania Avenue, NW., 1425 NYA Building, Washington, DC 20530. Telephone number (800) 514-0301 (Voice) or (800) 514-0383 (TTY).

Copies of this notice are available in formats accessible to individuals with vision impairments and may be obtained by calling (800) 514-0301 (Voice) or (800) 514-0383 (TTY). Copies of the NCAC and supporting materials may be inspected by appointment at 1425 New York Avnue, NW., Suite 4039, Washington, DC by calling Linda Garrett at (202) 353-0423 TTY, or by e-mail at Linda.Garrett@usdoj.gov.

SUPPLEMENTARY INFORMATION:

Background

The ADA authorizes the Department of Justice, upon application by a State or local government, to certify that a State or local law that establishes accessibility requirements meets or exceeds the minimum requirements of title III of the ADA for new construction and alterations. 42 U.S.C. 12188(b)(1)(A)(ii); 28 CFR 36.601 et seq. Final certification constitutes rebuttable evidence, in any ADA enforcement action, that a building constructed or altered in accordance with the certified code complies with the new construction and alterations requirements of title III of the ADA.

The North Carolina Department of Insurance requested that the Department of Justice (Department) certify that the 200w North Carolina Accessibility Code with 2004 amendments (NCAC) meets or exceeds the new construction and alterations requirements of title III of the ADA.

The Department has analyzed the NCAC and has preliminarily determined that it meets or exceeds the new construction and alterations requirements of title III of the ADA. By letter dated March 17, 2005, the Department notified the North Carolina Department of Insurance of the Department's preliminary determination of equivalency.

Effect of Certification

The certification determination will be limited to the version of the NCAC that has been submitted to the Department. The certification will not apply to amendments or interpretations that have not been submitted and reviewed by the Department.

Certification will not apply to buildings constructed by or for State or local governmental entities, which are subject to title II of the ADA. Nor does certification apply to accessibility requirements that are addressed by the NCAC, but are not addressed by the new construction alterations requirements of title III of the ADA, including the ADA Standards for Accessible Design.

Certification also will not apply to variances or waivers granted under the NCAC. Therefore, if a builder receives a variance, waiver, modification, or other exemption from the requirements of the NCAC for any element of construction or alterations, the certification determination will not constitute evidence of ADA compliance with respect to that element. Similarly, certification will not apply if other North Carolina building codes provide an exemption from the ADA required minimum accessibility requirements.

Procedure

The Department will hold an informal hearing in North Carolina during the 60-day comment period to provide an opportunity for interested persons, including individuals with disabilities, to express their views with respect to the preliminary determination of equivalency for the North Carolina law. Interested parties who wish to testify at the hearing should contact Linda Garrett at (202) 353+-0423 TTY or by e-mail at Linda.Garrett@usdoj.gov.

The hearing site will be accessible to individuals with disabilities. Individuals who require sign language interpreters or other auxiliary aids should contact Linda Garrett at (202) 353-0423 TTY, or by e-mail at Linda.Garrett@usdoj.gov.

Dated: March 31, 2005.
R. Alexander Acosta,
Assistant Attorney General for Civil Rights.

[FR Doc. 05-7034 Filed 4-7-05; 8:45 am]

BILLING CODE 4410-13-M